DEPARTMENT OF AGRICULTURE

Forest Service

Natapoc Ridge Forest Restoration Project, Okanogan-Wenatchee National Forests, Chelan County, WA

AGENCY: Forest Service, USDA.

ACTION: Notice of intent to prepare an environmental impact statement.

SUMMARY: The Forest Service, USDA, will prepare an environmental impact statement (EIS) on a site-specific proposal to improve forest health and sustainability on National Forest lands in the Natapoc Mountain area of the Wenatchee River Ranger District, Okanogan-Wenatchee National Forests. The proposal will include a variety of vegetative treatments and road management actions, as further described in the SUPPLEMENTARY INFORMATION section below. Approximately 4,588 acres would be treated in the proposed project area.

The analysis area is located within the Wenatchee River watershed near Plain, Washington, approximately 12 miles north of the city of Leavenworth. It is generally bounded by U.S. Highway 2 and State Highway 207 to the west, and the Wenatchee River to the north, east and west, and includes parts of the following townships: T27N, R17E; T26N, R17E; and T25N, R17E., Williamette Meridian.

The proposal is designed to meet the following needs: (1) Promote the restoration of forest structure, composition, and age class distribution, to a more sustainable condition; (2) reduce the risks from wildfire, insects, and disease to late-successional habitat in the Deadhorse Late Successional Reserve and Natapoc Managed Late Successional Area; and (3) reduce hazardous fuels within the wildland-urban interface, particularly in areas adjacent to private property. The direction in the Wenatchee National Forest Land and Resource Management Plan (1990), as amended by the Northwest Forest Plan (1994; 2004), provides the overall guidance for management of this area.

Activities would be implemented between 2006 and approximately 2016 by a combination of private contracting, Forest Service personnel, cooperative agreements, and volunteers.

DATES: Comments concerning the scope of the analysis must be received by December 14, 2005.

ADDRESSES: Submit written comments to James L. Boynton, Forest Supervisor, c/o Vaughan Marable, District Ranger, Wenatchee River Ranger District, 600 Sherbourne, Leavenworth, Washington 98826, Attn: Natapoc Ridge Forest Restoration Project. Comments may be mailed electronically to comments_wenatchee_river@fs.fed.us. See the SUPPLEMENTARY INFORMATION section below for file formats and other information about electronic filing of comments.

FOR FURTHER INFORMATION CONTACT: Steve Willet, Natapoc Project Leader, USDA Forest Service, Wenatchee River Ranger District, 600 Sherbourne, Leavenworth, Washington 98826; phone 509-548-6977, Ext. 288.

SUPPLEMENTARY INFORMATION:

Purpose and Need for Action

The purpose and need for action in the project area is to promote the restoration of forest structure, composition, and age class distribution, to a more sustainable condition. Fire exclusion and timber harvest over the last 100 years have dramatically changed these forest components. Stand densities and fuel accumulations are abnormally high and at risk of uncharacteristic stand replacement wildfire. Fire exclusion and past timber harvest have also altered forest composition by increasing the fire intolerant species while decreasing the fire tolerant species. The number of host trees susceptible to disease or insect attack has increased. The proposed action is needed to reduce the risk of large scale, uncharacteristic wildfire and improve forest health.

In dry forest types within the project area, the objective is to promote open stands of large ponderosa pine and Douglas-fir. In mesic forest types of the project area, the objective is to promote a mosiac of diverse stand structures, spatially isolating crown-fire prone stands. Within the Deadhorse Late Successional Reserve and Natapoc Managed Late Successional Area, the purpose and need is to reduce the risk to late-successional habitat from wildfire, insects and disease. The Natapoc Ridge Forest Restoration Project would also reduce hazardous fuels within the wildland-urban interface, especially in areas adjacent to private property, to provide access and increase safety for firefighters and the public.

The Forest Service has successfully implemented similar restoration projects in the Fish Lake and Natapoc Ridge area since the early 1990s. This proposal is a continuation of those efforts.

Proposed Action

The proposed Natapoc Ridge Forest Restoration Project would include the following activities:

—Commercial thinning of overstocked stands to improve tree vigor, reduce ladder and crown fuels, and favor the retention of large healthy Douglas-fir and ponderosa pine. Various combinations of underburning, hand piling/pile burning, and top/limb yarding would be used to reduce both activity and existing fuels.

—Non-commercial thinning and some pruning of small trees to improve vigor, reduce ladder and crown fuels, and favor desired species. Treatment areas would mostly occur in 15+ year old plantations.

—Regeneration harvest of selected stands that are currently unstable due to insect and disease infestations. Usually, all but 5 to 10 large, healthy trees would be cut in these areas. Areas would be replanted with desired tree species.

—Ladder and surface fuel reduction through pruning or cutting of low hanging limbs and small trees up to 6 to 7 inches in diameter in order to reduce potential surface fire intensity and to prevent tree torching.

—Underburning of selected areas to reduce ladder fuels and accumulated surface fuels.

—Closure of portions of the existing open roads to motorized vehicles in order to reduce overall road mileage in the project area.

—Noxious weed prevention and control through use of manual, cultural, and/or chemical control methods.

Proposed logging systems would include helicopter, ground-based over snow, and/or skyline cable systems. Access for treatments could require construction of approximately 15.2 miles of temporary new road, reconstruction of approximately 1.7 miles of existing permanent roads, and reopening of approximately 16.8 miles of existing closed roads. All new, reconstructed, and reopened roads would be closed after completion of project activities. In addition, approximately 8.0 miles of existing open roads are proposed to be closed after completion of project activities.

The proposed action also includes a minor amendment of the 1990 Wenatchee Forest Plan to clarify standards and guidlines for intermediate harvest in the Classified Special Area (SI-2) land allocation.

The Natapoc Ridge Forest Restoration Project was prompted by the 1996 Nason Creek Watershed Analysis, the 1999 Mainstem Wenatchee River Watershed Analysis, and the 2004 Forest Health Assessment for the Okanogan-Wenatchee National Forests. A number of strategies were suggested that would begin moving areas of the watershed back to the desired condition. This proposed action is intended to carry out some of these strategies within the Natapoc portion of the watershed.

Possible Alternatives

A full range of alternatives will be considered, including a No Action Alternative, in which none of the activities proposed above would be implemented. Based on the issues gathered during scoping, the action alternatives would differ in (1) the silvicultural treatments prescribed; (2) the type, amount and location of harvest; (3) the amount and location of fuels reduction activities; and (4) the proposals for road management, including road closures and new construction.

Responsible Official

The Responsible Official is James L. Boynton, Forest Supervisor, Okanogan-Wenatchee National Forests, 215 Melody Lane, Wenatchee, Washington 98801. The Responsible Official will document the Natapoc Ridge Forest Restoration Project decision and reasons for the decision in a Record of Decision. That decision will be subject to Forest Service appeal regulations (36 CFR part 215).

Nature of Decision To Be Made

The Responsible Official will decide which, if any, of the proposed activities will be implemented, including the type, extent, and location of vegetative treatments to carry out on National Forest System lands within the project area, and management of the associated road system. The decision regarding which combination of actions to implement will be determined by comparing how each factor of the project purpose and need is met by each of the alternatives and the manner in which each alternative responds to the key issues raised and public comments received during the analysis.

Scoping Process

Public participation will be sought at several points during the analysis, including listing of this project in the Fall 2005 and subsequent issues of the Okanogan-Wenatchee National Forests Schedule of Proposed Actions; letters to Indian Tribes, agencies, organizations and individuals who may be interested in or affected by the proposed activities; and a legal notice in The Wenatchee World newspaper. A public meeting may be scheduled during the winter/spring of 2006. The scoping process will include identifying potential issues, identifying major issues to be analyzed in depth, eliminating non-significant issues or those previously covered by a relevant environmental analysis, exploring additional alternatives derived from the issues recognized during scoping activities, and identifying potential environmental effects of the proposed action and alternatives (i.e., direct, indirect and cumulative effects and connected actions).

Comments received in response to this notice, including names and addresses of those who comment, will be considered part of the public record on this Proposed Action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

Electronic Access and Filing Addresses

Comments and data may be submitted by sending electronic mail (e-mail) to: comments_wenatchee_river@fs.fed.us. Include the project name in the e-mail subject line and submit comments either as part of the e-mail message or as an attachment in one of the following three formats: Microsoft Word, rich text format (rtf) or Adobe Portable Document Format (pdf).

Preliminary Issues

Preliminary issues include the following: Effects to late-successional habitat of the Deadhorse Late Successional Reserve and the Natapoc Managed Late Successional Area; effects of the proposed activities on the scenic and recreational qualities of the Wenatchee Wild and Scenic River corridor; effects on the Wenatchee River fisheries, riparian reserves, grizzly bear core habitat, spotted owl critical habitat, deer winter range, large old trees, and noxius weeds; disturbance to heritage resources; ability of the proposed activities to contribute to restoration of sustainable vegetative composition, structure and pattern; and the degree to which activities will reduce fuels in critical wildland-urban interface areas.

Early Notice of Importance of Public Participation in Subsequent Environmental Review

The comment period on the draft EIS will be 45 days from the date the Environmental Protection Agency publishes the notice of availability in the Federal Register. The draft EIS is expected to be filed with the Environmental Protection Agency (EPA) and to be available for review in April 2005 and the final EIS is expected to be completed by July 2005.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Dated: November 7, 2005.
Paul Hart,
Acting Forest Supervisor.

[FR Doc. 05-22595 Filed 11-14-05; 8:45 am]

BILLING CODE 3410-11-M